ENVIRONMENTAL PROTECTION AGENCY

[FRL-11390-01-OAR]

Notice of Transfer of Data Potentially Claimed as Confidential Business Information Under the Clean Air Act to the United States Energy Information Administration

AGENCY: Environmental Protection Agency (EPA).

ACTION: Notice.

SUMMARY: This notice announces that information submitted to EPA's Office of Air and Radiation, Office of Transportation and Air Quality, pursuant to the Clean Air Act, including information that may be claimed as Confidential Business Information (CBI) by the submitter, will be transferred to the United States Energy Information Administration (EIA), a Federal agency pursuant to a written Information Sharing Agreement between EPA and EIA.

DATES: Access by EIA to this material, including CBI, discussed in this Notice, is ongoing and expected to occur beginning February 2, 2024.

FOR FURTHER INFORMATION CONTACT: Anne-Marie Pastorkovich, Attorney/Advisor, Compliance Division, Office of Transportation and Air Quality; telephone number: 202-343-9623; email address: pastorkovich.anne-marie@epa.gov.

SUPPLEMENTARY INFORMATION: EPA is providing notice of disclosure under a written Information Sharing Agreement with EIA and in accordance with 40 CFR 2.209(c). EPA and EIA have entered an Information Sharing Agreement that will remain in effect until December 19, 2028, unless terminated earlier by either party or both parties.

EPA collects various data on conventional and renewable fuels, including registration and compliance information, to implement the Renewable Fuel Standard (RFS) program and other fuels programs under section 211(o) of the Clean Air Act. This includes collecting information from submitter companies about their facilities, products, and generation and use of renewable identification numbers (RINs). These data may be claimed as CBI by the submitter.

EIA is the statistical and analytical agency of the U.S. Department of Energy (DOE). EIA collects, analyzes, and disseminates independent and impartial energy information to promote sound policymaking, efficient markets, and public understanding of energy and its interaction with the economy and the environment.

The Information Sharing Agreement covers information collected by EPA related to fuels, fuel additives, and regulated blendstocks under 40 CFR part 1090 and renewable fuels under 40 CFR part 80. The data include information about company and facility registrations, fuels compliance reporting, and transactional reporting (e.g., benzene and sulfur credits, and renewable identification numbers, or “RINs”). Most of the information that may be shared under this agreement is claimed as CBI by submitters. Information claimed as CBI will be securely transmitted from EPA to EIA and will be handled and stored by each agency in a manner appropriately secure for such information. EPA believes that this Information Sharing Agreement will facilitate and support policy development, market understanding, and data verification for credits and RINs, in support of fuels program administration. EPA is publishing this notice to make submitters aware of our intention to release data that may be entitled to confidential treatment to EIA.

Byron J. Bunker,
Director, Compliance Division.

[FR Doc. 2024-01233 Filed 1-22-24; 8:45 am]

BILLING CODE 6560-50-P